DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by February 14, 2022. Written comments and recommendations for the proposed information collection should be submitted within 30 days of the publication of this notice on the following website www.reginfo.gov/public/do/PRAMain. You may find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: Aquaculture Surveys—Substantive Change.

OMB Control Number: 0535-0150.

Summary of Collection: General authority for these data collection activities is granted under U.S. Code Title 7, Section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

The National Agricultural Statistics Service (NASS) is seeking approval for this substantive change request to the aquaculture surveys information collection request. NASS seeks approval to conduct a Pennsylvania Aquaculture Census that is funded by a cooperative agreement between the National Agricultural Statistics Service (USDA-NASS) and the Pennsylvania Department of Agriculture (PDA). NASS will conduct a census of the Pennsylvania aquaculture producers and provide Pennsylvania Department of Agriculture and the public with a summary report of all sales specifying the amount or weight of each species (except trout) sold and gross receipts. Pennsylvania trout sales data are accounted for in the NASS' Trout Production report. Additional burden is estimated at 64 hours over 175 respondents. One response per year is needed for Pennsylvania's aquaculture census.

Need and Use of the Information: Act 98 of the 1998 Pennsylvania General Assembly Amended Title 3 (Agriculture) of the Pennsylvania Consolidated Statutes mentions the Pennsylvania Department of Agriculture cooperates with NASS for a survey of Pennsylvania's aquacultural industry.

Description of Respondents: Farms: Individuals or households.

Number of Respondents: 2,450.

Frequency of Responses: Once per year.

Total Burden Hours: 796.

Ruth Brown,
Departmental Information Collection Clearance Officer.

[FR Doc. 2022-00484 Filed 1-12-22; 8:45 am]

BILLING CODE 3410-20-P